DEPARTMENT OF COMMERCE

Foreign-Trade Zones Board

[S-164-2017]

Approval of Subzone Status; North American Hoganas Company Johnstown, Hollsopple and St. Mary's, Pennsylvania

On October 19, 2017, the Executive Secretary of the Foreign-Trade Zones (FTZ) Board docketed an application submitted by the Pennsylvania Foreign Trade Zone Corporation, grantee of FTZ 295, requesting subzone status subject to the existing activation limit of FTZ 295, on behalf of North American Hoganas Company, in Johnstown, Hollsopple and St, Mary's, Pennsylvania.

The application was processed in accordance with the FTZ Act and Regulations, including notice in the Federal Register inviting public comment (82 FR 49586-49587, October 26, 2017). The FTZ staff examiner reviewed the application and determined that it meets the criteria for approval. Pursuant to the authority delegated to the FTZ Board Executive Secretary (15 CFR Sec. 400.36(f)), the application to establish Subzone 295B was approved on December 19, 2017, subject to the FTZ Act and the Board's regulations, including Section 400.13, and further subject to FTZ 295's 2,000-acre activation limit.

Dated: December 20, 2017.
Andrew McGilvray,
Executive Secretary.

[FR Doc. 2017-27881 Filed 12-26-17; 8:45 am]

BILLING CODE 3510-DS-P